DEPARTMENT OF HEALTH AND HUMAN SERVICES

Centers for Disease Control and Prevention

[30Day-21-1074]

Agency Forms Undergoing Paperwork Reduction Act Review

In accordance with the Paperwork Reduction Act of 1995, the Centers for Disease Control and Prevention (CDC) has submitted the information collection request titled Colorectal Cancer Control (CRCCP) Monitoring Activities to the Office of Management and Budget (OMB) for review and approval. CDC previously published a “Proposed Data Collection Submitted for Public Comment and Recommendations” notice on June 5, 2020 to obtain comments from the public and affected agencies. CDC received two non-substantive public comments and provided responses to each. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Colorectal Cancer Control Program (CRCCP) Monitoring Activities (OMB Control No. 0920-1074, Exp. 7/31/2020)—Reinstatement with Change—National Center for Chronic Disease Prevention and Health Promotion (NCCDPHP), Centers for Disease Control and Prevention (CDC).

Background and Brief Description

CDC is requesting a Reinstatement with Change to OMB Control No. 0920-1074. CDC proposes use of a modified annual grantee survey instrument (renamed “Annual Awardee Survey”), a modified clinic-level data collection instrument, and a new awardee-level Quarterly Program Update. The number of respondents will increase from 30 to 35 awardees, and the total estimated annualized burden will increase.

Colorectal cancer (CRC) is the second leading cause of death from cancer in the United States among cancers that affect both men and women. There is substantial evidence that CRC screening reduces the incidence of and death from the disease. Screening for CRC can detect disease early, when treatment is more effective, and prevent cancer by finding and removing precancerous polyps. Of individuals diagnosed with early stage CRC, more than 90% live five or more years. To reduce CRC morbidity, mortality, and associated costs, use of CRC screening tests must be increased among age-eligible adults with the lowest CRC screening rates.

The purpose of the Colorectal Cancer Control Program (CRCCP) is to partner with health systems and their individual primary care clinics to implement evidence-based interventions (EBIs) to increase CRC screening among defined populations of adults ages 50-75 that have CRC screening rates lower than the national, regional, or local rate.

In 2020, CDC issued a new funding opportunity, Public Health and Health System Partnerships to Increase Colorectal Cancer Screening in Clinical Settings (DP20-2002), a five-year cooperative agreement to increase CRC screening among defined populations of adults ages 50-75 that have CRC screening rates lower than the national, regional, or local rate. DP20-2002 funds recipients to partner with health systems and their primary care clinics to implement multiple EBIs, partner with organizations to support implementation of EBIs in those clinics, and collect high-quality clinic-level data when a clinic is recruited to participate (baseline) and annually thereafter to monitor EBI implementation and assess screening rate changes. DP20-2002 eliminates funding to provide direct clinical service delivery. However, DP20-2002 requires recipients to conduct a formal readiness assessment of potential clinics to implement EBIs, use assessment findings to select appropriate EBIs for implementation, and provide clinics with limited financial resources to support follow-up colonoscopies for under- and uninsured patients after an abnormal CRC screening test.

CDC proposes three information collections—a modified Annual Awardee Survey, a modified Clinic-Level Data Collection Instrument, and a new awardee-level Quarterly Program Update—to reflect modified goals for the new cooperative agreement and a modified monitoring plan.

The Annual Awardee Survey eliminates questions related to clinic service delivery, which is no longer funded under DP20-2002. In addition, many program management questions were eliminated and will now be gathered via the Quarterly Program Update on a quarterly basis to better inform CDC technical assistance (TA). The survey now includes five items regarding the effect of COVID-19 on CRCCP implementation at the grantee level.

The modified clinic-level data collection instrument was reorganized for increased efficiency and overall data quality improvement. In addition, wording and responses for many variables and their response options have undergone minor revisions to better capture awardees' partnerships with both health systems and clinics, and appropriate capture of baseline and annual variables. The instrument gathers information to assess health system and clinic characteristics; program reach; CRC screening practices and outcomes; clinics' quality improvement and monitoring activities; EBI implementation; additional factors that affect EBI implementation over time; and the effect of COVID-19 on CRCCP implementation at the clinic level.

The new Quarterly Program Update survey will collect standardized awardee-level information on aspects of program management, including (1) respondent information, (2) award spending, (3) staff vacancies, (4) program successes and challenges, (5) TA needs, and (6) COVID-19. This information collection will provide CDC staff rapid reporting of programmatic information to inform their efforts to provide awardees with tailored TA.

Redesigned data elements will enable CDC to better gauge progress in meeting CRCCP program goals and monitor implementation activities, evaluate outcomes, and identify awardee TA needs. In addition, data collected will inform program improvement and help identify successful activities that need to be maintained, replicated, or expanded.

OMB approval is requested for three years. The number of awardees will increase from 30 to 35 awardees, and the number of clinic partners is expected to increase from 12 to 24 per awardee. Therefore, the total estimated annualized burden hours have increased from 204 to 760 hours.

Estimated Annualized Burden Hours
Type of respondent | Form name | Number of respondents | Number of responses per respondent | Average burden per response (in hr)
CRCCP Awardees | CRCCP Annual Awardee Survey | 35 | 1 | 15/60
| CRCCP Clinic-level Data Collection Instrument | 35 | 24 | 50/60
| CRCCP Quarterly Program Update | 35 | 4 | 22/60

Jeffrey M. Zirger,
Lead, Information Collection Review Office, Office of Scientific Integrity, Office of Science, Centers for Disease Control and Prevention.

[FR Doc. 2020-26631 Filed 12-2-20; 8:45 am]

BILLING CODE 4163-18-P